DEPARTMENT OF THE INTERIOR

Bureau of Indian Affairs

25 CFR Part 170

RIN 1076-AE17

Indian Reservation Roads Program

AGENCY: Bureau of Indian Affairs, Interior.

ACTION: Final rule; delay of implementation.

SUMMARY: On July 19, 2004, the Bureau of Indian affairs published a Final Rule in the Federal Register (69 FR 43090) which established policies and procedures governing the Indian Reservation Roads (IRR) Program. The IRR Program is a part of the Federal Lands Highway Program established to address transportation needs of tribes. The program is jointly administered by the Bureau of Indian Affairs and the Federal Highway Administration's Federal Lands Highway Office. The Final Rule has an announced effective date of October 1, 2004. The Congressional Review Act requires a 60-day delay in the effective date of a major rule from the date of publication in the Federal Register or receipt of the rule by Congress, whichever is later. 5 U.S.C. 801(a)(3)(A). Because of an inadvertent clerical error, the Final Rule was not received by Congress until September 13, 2004. Therefore, implementation of the Final Rule by the Bureau of Indian Affairs is delayed until November 13, 2004.

DATES: Implementation of the Final Rule published at 69 FR 43090 will be delayed until November 13, 2004.

FOR FURTHER INFORMATION CONTACT: LeRoy Gishi, Chief, Division of Transportation, Bureau of Indian Affairs, 1951 Constitution Avenue, NW., MS 320 SIB, Washington, DC 20240, Telephone 202-513-7711 or Fax 202-208-4696.

Dated: October 7, 2004.
Duncan L. Brown,
Regulatory Specialist, Office of the Executive Secretariat, Department of the Interior.

[FR Doc. 04-22984 Filed 10-13-04; 8:45 am]

BILLING CODE 4310-LH-M